DEPARTMENT OF COMMERCE

National Oceanic and Atmospheric Administration

50 CFR Part 660

[Docket No. 150316270-5270-01]

RIN 0648-XD976

Fisheries Off West Coast States; Modifications of the West Coast Commercial Salmon Fisheries; Inseason Actions #3, #4, #5, and #6

AGENCY: National Marine Fisheries Service (NMFS), National Oceanic and Atmospheric Administration (NOAA), Commerce.

ACTION: Modification of fishing seasons; request for comments.

SUMMARY: NMFS announces four inseason actions in the ocean salmon fisheries. These inseason actions modified the commercial salmon fisheries in the area from the U.S./Canada border to Cape Falcon, OR.

DATES: The effective dates for the inseason actions are set out in this document under the heading Inseason Actions. Comments will be accepted through July 13, 2015.

ADDRESSES: You may submit comments, identified by NOAA-NMFS-2015-0001, by any one of the following methods:

• Electronic Submissions: Submit all electronic public comments via the Federal eRulemaking Portal. Go to www.regulations.gov/#!docketDetail;D=NOAA-NMFS-2015-0001, click the “Comment Now!” icon, complete the required fields, and enter or attach your comments.

• Mail: William W. Stelle, Jr., Regional Administrator, West Coast Region, NMFS, 7600 Sand Point Way NE., Seattle, WA, 98115-6349

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter“N/A” in the required fields if you wish to remain anonymous).

FOR FURTHER INFORMATION CONTACT: Peggy Mundy at 206-526-4323.

SUPPLEMENTARY INFORMATION:

Background

In the 2015 annual management measures for ocean salmon fisheries (80 FR 25611, May 5, 2015), NMFS announced the commercial and recreational fisheries in the area from the U.S./Canada border to the U.S./Mexico border, beginning May 1, 2015, and 2016 salmon seasons opening earlier than May 1, 2016. NMFS is authorized to implement inseason management actions to modify fishing seasons and quotas as necessary to provide fishing opportunity while meeting management objectives for the affected species (50 CFR 660.409). Inseason actions in the salmon fishery may be taken directly by NMFS (50 CFR 660.409(a)—Fixed inseason management provisions) or upon consultation with the Pacific Fishery Management Council (Council) and the appropriate State Directors (50 CFR 660.409(b)—Flexible inseason management provisions). The state management agencies that participated in the consultations described in this document were: Oregon Department of Fish and Wildlife (ODFW) and Washington Department of Fish and Wildlife (WDFW).

Management of the salmon fisheries is generally divided into two geographic areas: north of Cape Falcon (U.S./Canada border to Cape Falcon, OR) and south of Cape Falcon (Cape Falcon, OR, to the U.S./Mexico border). The inseason actions reported in this document affect commercial salmon fisheries north of Cape Falcon. All times mentioned refer to Pacific daylight time.

Inseason Actions

Inseason Action #3

Description of action: Inseason action #3 closed the commercial salmon fishery from U.S./Canada border to Queets River, WA, at 11:59 a.m., noon, May 16, 2015.

Effective dates: Inseason action #3 took effect on May 16, 2015, and remained in effect until superseded by inseason action #4 on May 22, 2015.

Reason and authorization for the action: The annual management measures (80 FR 25611) established a May/June quota in the commercial salmon fishery between the U.S./Canada border and the Queets River of 9,000 Chinook salmon. The annual management measures also provided guidance that inseason action should be taken to modify the open period and landing limits when 6,750 Chinook salmon had been landed in this area. After consideration of Chinook salmon landings to date and fishery effort, the Regional Administrator (RA) determined that the fishery had likely attained the 6,750 Chinook salmon benchmark, and that this fishery would close on May 16, 2015. This closure allowed the state managers to account for catch that had not yet been landed at the time of the consultation. This action was taken to prevent exceeding the Chinook salmon quota set preseason. Inseason action to modify quotas and/or fishing seasons is authorized by 50 CFR 660.409(b)(1)(i).

Consultation date and participants: Consultation on inseason action #3 occurred on May 15, 2015. Participants in this consultation were staff from NMFS, Council, WDFW, and ODFW.

Inseason Action #4

Description of action: Inseason action #4 reopened the commercial salmon fishery from U.S./Canada border to Cape Alava, WA, at 12:01 a.m., May 22, 2015 with 5-day openings, Friday through Tuesday, and a landing limit of 15 Chinook salmon per vessel per open period. The Cape Flattery control zone remains closed. All fishers intending to fish north of Cape Alava (Washington state marine Area 4) must declare that intention before fishing by first notifying WDFW at 360-902-2739 with boat name and approximate time they intend to fish in Area 4 and destination at the end of the trip. All fish from Area 4 must be landed before fishing any other area. No fish from other areas may be in possession with fish from Area 4.

Effective dates: Inseason action #4 took effect on May 22, 2015, and remained in effect until superseded by inseason action #5 on May 29, 2015.

Reason and authorization for the action: Following the closure implemented by inseason action #3, the states estimated that 1,617 Chinook salmon remained of the 9,000 Chinook salmon subarea quota. Inseason action was taken to allow access to the remaining quota without exceeding the quota that was set preseason. Inseason action to modify quotas and/or fishing seasons is authorized by 50 CFR 660.409(b)(1)(i).

Consultation date and participants: Consultation on inseason action #4 occurred on May 20, 2015. Participants in this consultation were staff from NMFS, WDFW, and ODFW. Council staff did not participate in the consultation, but were immediately advised of the decision.

Inseason Action #5

Description of action: Inseason action #5 modified the landing limit in the commercial salmon fishery from U.S./Canada border to Cape Alava, WA, from 15 Chinook salmon per vessel per open period to 20 Chinook salmon per vessel per open period.

Effective dates: Inseason action #5 took effect on May 29, 2015, and remains in effect until superseded by inseason action or the end of the May/June fishing season, June 30, 2015.

Reason and authorization for the action: The RA considered Chinook salmon landings to date and fishery effort and determined that increasing the landing limit would allow fishers access to remaining quota without risk of exceeding the quota set preseason.

Consultation date and participants: Consultation on inseason action #5 occurred on May 28, 2015. Participants in this consultation were staff from NMFS, Council, WDFW, and ODFW.

Inseason Action #6

Description of action: Inseason action #6 closed the commercial salmon fishery from Leadbetter Point, WA, to Cape Falcon, OR, at 11:59 p.m. (midnight), May 29, 2015.

Effective dates: Inseason action #6 took effect on May 29, 2015, and remains in effect until superseded by inseason action or the end of the May/June fishing season, June 30, 2015.

Reason and authorization for the action: The annual management measures (80 FR 25611) established a May/June quota in the commercial salmon fishery between Leadbetter Point, WA, and Cape Falcon, OR, of 15,000 Chinook salmon. The annual management measures also provided guidance that inseason action should be taken to modify the open period and landing limits when 11,250 Chinook salmon had been landed in this area. After consideration of Chinook salmon landings to date and fishery effort, the Regional Administrator (RA) determined that the fishery was close to attaining the 11,250 Chinook salmon benchmark, and that this area would close on May 29, 2015. This closure allowed the state managers to account for catch that had not yet been landed at the time of the consultation. This action was taken to prevent exceeding the Chinook salmon quota set preseason. Inseason action to modify quotas and/or fishing seasons is authorized by 50 CFR 660.409(b)(1)(i).

Consultation date and participants: Consultation on inseason action #6 occurred on May 28, 2015. Participants in this consultation were staff from NMFS, Council, WDFW, and ODFW.

All other restrictions and regulations remain in effect as announced for the 2015 ocean salmon fisheries and 2016 fisheries opening prior to May 1, 2016 (80 FR 25611, May 5, 2015).

The RA determined that the best available information indicated that Chinook salmon catch to date and fishery effort supported the above inseason actions recommended by the states of Washington and Oregon. The states manage the fisheries in state waters adjacent to the areas of the U.S. exclusive economic zone in accordance with these Federal actions. As provided by the inseason notice procedures of 50 CFR 660.411, actual notice of the described regulatory actions was given, prior to the time the action was effective, by telephone hotline numbers 206-526-6667 and 800-662-9825, and by U.S. Coast Guard Notice to Mariners broadcasts on Channel 16 VHF-FM and 2182 kHz.

Classification

The Assistant Administrator for Fisheries, NOAA (AA), finds that good cause exists for this notification to be issued without affording prior notice and opportunity for public comment under 5 U.S.C. 553(b)(B) because such notification would be impracticable. As previously noted, actual notice of the regulatory actions was provided to fishers through telephone hotline and radio notification. These actions comply with the requirements of the annual management measures for ocean salmon fisheries (80 FR 25611, May 5, 2015), the West Coast Salmon Fishery Management Plan (Salmon FMP), and regulations implementing the Salmon FMP, 50 CFR 660.409 and 660.411. Prior notice and opportunity for public comment was impracticable because NMFS and the state agencies had insufficient time to provide for prior notice and the opportunity for public comment between the time Chinook salmon catch and effort assessments and projections were developed and fisheries impacts were calculated, and the time the fishery modifications had to be implemented in order to ensure that fisheries are managed based on the best available scientific information, ensuring that conservation objectives and ESA consultation standards are not exceeded. The AA also finds good cause to waive the 30-day delay in effectiveness required under 5 U.S.C. 553(d)(3), as a delay in effectiveness of these actions would allow fishing at levels inconsistent with the goals of the Salmon FMP and the current management measures.

These actions are authorized by 50 CFR 660.409 and 660.411 and are exempt from review under Executive Order 12866.

Authority: 16 U.S.C. 1801 et seq.

Dated: June 23, 2015.
Jennifer M. Wallace,
Acting Director, Office of Sustainable Fisheries, National Marine Fisheries Service.

[FR Doc. 2015-15738 Filed 6-25-15; 8:45 am]

BILLING CODE 3510-22-P